DEPARTMENT OF COMMERCE

International Trade Administration

[A-570-827]

Certain Cased Pencils From the People's Republic of China: Amended Final Results of Antidumping Duty New Shipper Review; 2014-2015

AGENCY: Enforcement and Compliance, International Trade Administration, Department of Commerce.

SUMMARY: The Department of Commerce (Department) is amending the final results of the new shipper review (NSR) of the antidumping duty order on certain cased pencils from the People's Republic of China (PRC) to correct ministerial errors. The Department has reviewed Wah Yuen's allegation and determined that there were errors in the calculation of Wah Yuen's weighted-average dumping margin.

DATES: Effective December 20, 2016.

FOR FURTHER INFORMATION CONTACT: Mary Kolberg, AD/CVD Operations, Office I, Enforcement and Compliance, International Trade Administration, U.S. Department of Commerce, 1401 Constitution Avenue NW., Washington, DC 20230; telephone: (202) 482-1785.

SUPPLEMENTARY INFORMATION:

Background

On October 27, 2016, the Department published the final results of the NSR of the antidumping duty order on certain cased pencils from the PRC. The review covers Wah Yuen Stationery Co., Ltd. and its affiliate, Shandong Wah Yuen Stationery Co., Ltd. (collectively, Wah Yuen) for the period of review (POR) December 1, 2014, through May 31, 2015.

On October 28, 2016, Wah Yuen filed an allegation that the Department's calculation of the margin for Wah Yuen contained ministerial errors. In its ministerial error comments, Wah Yuen alleged that the Department erred in its calculation of the extended values for alkyd resin and acrylic resin. Wah Yuen argued that the Department calculated the freight component of the two input values incorrectly because it omitted the factors of production variable in both calculations. The Department reviewed the allegation and revised the calculation of the two inputs by multiplying the freight component for each input by the respective factor of production variable.¹

¹ See Memorandum to The File From Mary Kolberg, International Trade Analyst, re: “Analysis for the Amended Final Results of the Antidumping Duty New Shipper Review of Certain Cased Pencils from the People's Republic of China,” dated October 31, 2016.

Amended Final Results

The corrected weighted-average dumping margin for Wah Yuen is as follows:

Exporter | Producer | Revised weighted- average dumping margin (percent)
Wah Yuen Stationery Co., Ltd. | Shandong Wah Yuen Stationery Co., Ltd | 30.55

Assessment Rates

Consistent with section 751(a)(2)(C) of the Tariff Act of 1930, as amended, (the Act) and 19 CFR 351.212(b)(1), we intend to issue assessment instructions to the U.S. Customs and Border Protection (CBP) fifteen days after the date of publication of these amended final results. We will instruct CBP to assess antidumping duties on period of review entries in the corrected amount shown above.

Cash Deposit Requirements

The following cash deposit requirements will be effective October 27, 2016, the date of publication of the final results of this NSR for shipments of the subject merchandise from the PRC entered, or withdrawn from warehouse, for consumption on or after the publication date, as provided by section 751(a)(2)(C) of the Act: (1) For merchandise produced by Shandong Wah Yuen Stationery Co., Ltd. and exported by Wah Yuen Stationery Co., Ltd., the cash deposit rates will be that established in the amended final results of this review (except, if the rate is zero or de minimis, then zero cash deposit will be required); (2) for subject merchandise exported by Wah Yuen Stationery Co., Ltd. but not produced by Shandong Wah Yuen Stationery Co., Ltd., the cash deposit rate will be that for the PRC-wide entity (i.e., 114.90 percent); and (3) for subject merchandise produced by Shandong Wah Yuen Stationery Co., Ltd. but not exported by Wah Yuen Stationery Co., Ltd., the cash deposit rate will be that applicable to the exporter. These cash deposit requirements, when imposed, shall remain in effect until further notice.

Notification to Interested Parties

The Department intends to disclose calculations performed in connection with these amended final results within five days of the date of publication of this notice, in accordance with 19 CFR 351.224(b).

This corrected notice is issued and published in accordance with sections 751(a)(1) and 777(i)(1) of the Act and 19 CFR 351.214.

Dated: November 28, 2016.
Paul Piquado,
Assistant Secretary for Enforcement and Compliance.

[FR Doc. 2016-30626 Filed 12-19-16; 8:45 am]

BILLING CODE 3510-DS-P